ENVIRONMENTAL PROTECTION AGENCY

[FRL-8175-9]

Notice of Proposed Administrative Settlement Pursuant to the Comprehensive Environmental Response, Compensation, and Liability Act

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement concerning the Many Diversified Interest Superfund Site, OU1, in Houston, Texas with the following party: Clinton Gregg Investments, Ltd.

Under this Agreed Order, settling parties agree to perform cleanup work on an approximately 36 acre tract it is purchasing known as Operable Unit (“OU”) 1 of the Many Diversified Interests, Inc. (“MDI”) Superfund Site. The settlement includes a covenant not to sue pursuant to sections 106 and 107 of CERCLA, 42 U.S.C. 9606 and 9607, and section 7003 of the Resource Conservation and Recovery Act (RCRA), 42 U.S.C. 6973. The settling parties also agree to implement institutional controls.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733. Commenters may request an opportunity for a public meeting in the affected area in accordance with section 703(d) of RCRA, 42 U.S.C. 6973(d).

DATES: Comments must be submitted on or before July 3, 2006.

ADDRESSES: The proposed settlement and additional background information relating to the settlement are available for public inspection at 1445 Ross Avenue, Dallas, Texas 75202-2733. A copy of the proposed settlement may be obtained from Rafael Casanova, 6SF-A, U.S. Environmental Protection Agency, 1445 Ross Avenue, Dallas, Texas 75202-2733, or by calling 214-665-7437 or e-mail at casanova.rafael@epa.gov. Comments should reference the Many Diversified Interest (MDI) Superfund Site, Houston, Texas, and EPA Docket Number 06-12-05, and should be addressed to Rafael Casanova at the address listed above.

FOR FURTHER INFORMATION CONTACT: Barbara Nann, 1445 Ross Avenue, Dallas Texas 75202-2733 or call 214-665-2157 or e-mail nann.barbara@epa.gov.

Dated: May 19, 2006.
Richard E. Greene,
Regional Administrator, Region 6.

[FR Doc. E6-8481 Filed 5-31-06; 8:45 am]

BILLING CODE 6560-50-P